DEPARTMENT OF HEALTH AND HUMAN SERVICES

National Institutes of Health

National Institute of Allergy and Infectious Diseases; Notice of Meeting

Pursuant to section 1009 of the Federal Advisory Committee Act, as amended, notice is hereby given of a meeting of the Vaccine Research Center Board of Scientific Counselors, NIAID.

The meeting will be open to the public via Zoom, https://nih.zoomgov.com/j/1617772822?pwd=UaZ1sTjftGCftXjzaWVccw9rIifRg9.1. Individuals who plan to attend and need special assistance, such as sign language interpretation or other reasonable accommodations, should notify the Contact Person listed below in advance of the meeting.

The meeting will be closed to the public as indicated below in accordance with the provisions set forth in section 552b(c)(6), title 5 U.S.C., as amended for the review, discussion, and evaluation of individual intramural programs and projects conducted by the National Institute Of Allergy And Infectious Diseases, including consideration of personnel qualifications and performance, and the competence of individual investigators, the disclosure of which would constitute a clearly unwarranted invasion of personal privacy.

Name of Committee: Vaccine Research Center Board of Scientific Counselors, NIAID.

Date: December 10, 2024.

Closed: 9:00 a.m. to 11:45 a.m.

Agenda: To review and evaluate personnel qualifications and performance, and competence of individual investigators.

Address: National Institute of Allergy and Infectious Diseases, National Institutes of Health, Convent Drive, Room 1100, Bethesda, MD 20892 (Video Assisted Meeting).

Open: 11:45 a.m. to 12:00 p.m.

Agenda: Concept review.

Address: National Institute of Allergy and Infectious Diseases, National Institutes of Health, Convent Drive, Room 1100, Bethesda, MD 20892 (Video Assisted Meeting).

Closed: 12:00 p.m. to 4:00 p.m.

Agenda: To review and evaluate personnel qualifications and performance, and competence of individual investigators.

Address: National Institute of Allergy and Infectious Diseases, National Institutes of Health, Convent Drive, Room 1100, Bethesda, MD 20892 (Video Assisted Meeting).

Contact Person: Sarah J. Austin, Vaccine Research Center, National Institute of Allergy and Infectious Diseases, National Institutes of Health, 40 Convent Drive, Room 1100, Bethesda, MD 20892, (301) 761-7187, austinsj@niaid.nih.gov.

(Catalogue of Federal Domestic Assistance Program Nos. 93.855, Allergy, Immunology, and Transplantation Research; 93.856, Microbiology and Infectious Diseases Research, National Institutes of Health, HHS)

Dated: November 19, 2024.
Lauren A. Fleck,
Program Analyst, Office of Federal Advisory Committee Policy.

[FR Doc. 2024-27434 Filed 11-21-24; 8:45 am]

BILLING CODE 4140-01-P